DEPARTMENT OF JUSTICE

Drug Enforcement Administration

[Docket No. DEA-524]

Bulk Manufacturer of Controlled Substances Application: Johnson Matthey, Inc.

ACTION: Notice of application.

DATES: Registered bulk manufacturers of the affected basic classes, and applicants therefore, may file written comments on or objections to the issuance of the proposed registration on or before December 23, 2019.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on September 10, 2019, Johnson Matthey, Inc., 2003 Nolte Drive, West Deptford, New Jersey 08066-1743 applied to be registered as a bulk manufacturer of the following basic classes of controlled substances:

Controlled substance | Drug code | Schedule
Gamma Hydroxybutyric Acid | 2010 | I
Marihuana | 7360 | I
Tetrahydrocannabinols | 7370 | I
Dihydromorphine | 9145 | I
Difenoxin | 9168 | I
Amphetamine | 1100 | II
Methamphetamine | 1105 | II
Lisdexamfetamine | 1205 | II
Methylphenidate | 1724 | II
Nabilone | 7379 | II
Cocaine | 9041 | II
Codeine | 9050 | II
Dihydrocodeine | 9120 | II
Oxycodone | 9143 | II
Hydromorphone | 9150 | II
Diphenoxylate | 9170 | II
Ecgonine | 9180 | II
Hydrocodone | 9193 | II
Levorphanol | 9220 | II
Meperidine | 9230 | II
Methadone | 9250 | II
Methadone intermediate | 9254 | II
Morphine | 9300 | II
Thebaine | 9333 | II
Opium tincture | 9630 | II
Oxymorphone | 9652 | II
Noroxymorphone | 9668 | II
Alfentanil | 9737 | II
Remifentanil | 9739 | II
Sufentanil | 9740 | II
Tapentadol | 9780 | II
Fentanyl | 9801 | II

The company plans to bulk manufacture the listed controlled substances for internal use as intermediates or for sale to its customers. In reference to drug codes 7360 (marihuana), and 7370 (tetrahydrocannabinols), the company plans to bulk manufacture these drugs as synthetic. No other activities for these drug codes are authorized for this registration.

Dated: October 9, 2019.
William T. McDermott,
Acting Assistant Administrator.

[FR Doc. 2019-23012 Filed 10-21-19; 8:45 am]

BILLING CODE 4410-09-P